DEPARTMENT OF LABOR

Employment and Training Administration

[TA-W-34,841]

Black Warrior Wireline Corp., Boone Wireline Co., Inc., Odessa, Texas; Amended Certification Regarding Eligibility To Apply for Worker Adjustment Assistance

In accordance with Section 223 of the Trade Act of 1974 (19 U.S.C. 2273) the U.S. Department of Labor issued a Certification of Eligibility to Apply for Worker Adjustment Assistance on September 10, 1998 applicable to workers of Black Warrior Wireline Corp. located in Odessa, Texas. The notice was published in the Federal Register on September 28, 2998 (63 FR 51605).

At the request of the company, the Department reviewed the certification for workers of the subject firm. The workers are engaged in occupations related to the production of crude oil and natural gas. New information shows that Boone Wireline Co., Inc. is a wholly owned subsidiary of Black Warrior Wireline Corp. located in Odessa, Texas. The company also reports that workers separated from employment at Black Warrior had their wages reported under a separate unemployment insurance (UI) tax account for Boone Wireline Co., Inc. also located in Odessa, Texas. Based on these findings, the Department is amending the certification to reflect this matter.

The intent of the Department's certification is to include all workers of Black Warrior Wireline Corp. who were adversely affected by increased imports.

The amended notice applicable to TA-W-34,841 is hereby issued as follows:

“All workers of Black Warrior Wireline Corp., Boone Wireline Co., Inc., Odessa, Texas who became totally or partially separated from employment on or after July 22, 1997 through September 10, 2000 are eligible to apply for adjustment assistance under Section 223 of the Trade Act of 1974.”

Signed at Washington, DC this 22nd day of June, 2000.
Edward A. Tomchick,
Director, Division of Trade Adjustment Assistance.

[FR Doc. 00-17314 Filed 7-7-00; 8:45 am]

BILLING CODE 4509-30-M